DEPARTMENT OF THE TREASURY

Foreign Assets Control Office

Additional Designation Pursuant to Executive Order 13469 of July 25, 2008 “Blocking Property of Additional Persons Undermining Democratic Processes or Institutions in Zimbabwe”

AGENCY: Office of Foreign Assets Control, Treasury.

ACTION: Notice.

SUMMARY: The Treasury Department's Office of Foreign Assets Control (“OFAC”) is publishing the names of one newly-designated individual whose property and interests in property are blocked pursuant to Executive Order 13469 of July 25, 2008 “Blocking Property of Additional Persons Undermining Democratic Processes or Institutions in Zimbabwe” (the “Order”).

DATES: The designation by the Director of OFAC of the individual identified in this notice, pursuant to the Order is effective December 21, 2010.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On July 25, 2008, the President issued Executive Order 13469 with respect to Zimbabwe pursuant to, inter alia, the International Emergency Economic Powers Act (50 U.S.C. 1701-06). In the Order, the President took additional steps with respect to the national emergency declared in Executive Order 13288 of March 7, 2003, and relied upon for additional steps taken in Executive Order 13391 of November 22, 2005, in order to address the continued political repression and the undermining of democratic processes and institutions in Zimbabwe.

Section 1 of the Order blocks, with certain exceptions, all property, and interests in property, that are in, or hereafter come within, the United States or the possession or control of United States persons for persons determined by the Secretary of the Treasury, in consultation with the Secretary of State, to satisfy any of the criteria set forth in subparagraphs (a)(i) through (a)(viii) of Section 1.

On December 21, 2010, the Director of OFAC designated, pursuant to one or more of the criteria set forth in subparagraphs (a)(i) through (a)(viii) of Section 1 of the Order, the following individual whose name has been added to the list of Specially Designated Nationals and Blocked Persons and whose property and interests in property are blocked, pursuant to the Order:

Individual:

• TOMANA, Johannes, Office of Attorney General, Private Bag 7714, Causeway, Harare, Zimbabwe; DOB 9 Sep 1967; National ID No. 50-036322F 50 (Zimbabwe); Attorney General (individual) [ZIMBABWE]

Dated: December 21, 2010.
Adam J. Szubin,
Director, Office of Foreign Assets Control.

[FR Doc. 2010-32609 Filed 12-27-10; 8:45 am]

BILLING CODE 4811-45-P